DEPARTMENT OF TRANSPORTATION

Federal Aviation Administration

14 CFR Part 71

[Docket No. FAA-2025-1021; Airspace Docket No. 25-ANE-5]

RIN 2120-AA66

Amendment of Class D, Amendment of Class E4, and Amendment of Class E5 Airspace; Nantucket, MA

AGENCY: Federal Aviation Administration (FAA), DOT.

ACTION: Final rule.

SUMMARY: This action amends Class D airspace at Nantucket Memorial Airport, Nantucket, MA, due to the currently designated airspace not properly containing instrument flight rule (IFR) operations. Additionally, this action amends Class E4 airspace at Nantucket Memorial Airport, Nantucket, MA, due to portions no longer meeting the requirements of its designation. This action also amends the Class E5 airspace that no longer meets the requirements for its specific designation due to the amendment or cancellation of Standard Instrument Approach Procedures at Nantucket Memorial Airport, Nantucket, MA. This action also makes editorial changes to the airspace descriptions to reflect current geographic information and naming conventions.

DATES: Effective 0901 UTC, October 2, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. An electronic copy of this document may also be downloaded from the Office of the Federal Register's website at www.federalregister.gov.

FAA Order JO 7400.11J, Airspace Designations, and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Marc Ellerbee, Operations Support Group, Eastern Service Center, Federal Aviation Administration, 1701 Columbia Avenue, College Park, GA 30337; Telephone: (404) 305-5589.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace in Nantucket, MA.

History

The FAA published an NPRM for Docket No. FAA-2025-1021 in the Federal Register (90 FR 22031; May 23, 2025), proposing to amend Class D and Class E airspace over Nantucket Memorial Airport, Nantucket, MA. Interested parties were invited to participate in this rulemaking effort by submitting written comments on the proposal to the FAA. No comments were received.

Incorporation by Reference

Class D and Class E airspace designations are published in paragraphs 5000, 6004, and 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 by modifying the Class D, E4, and E5 airspace areas for Nantucket Memorial Airport, Nantucket, MA. Controlled airspace is necessary for the safety and management of IFR operations in the area for existing instrument approach procedures.

This action amends the Class D airspace extending upward from the surface to and including 2,500 feet MSL for Nantucket Memorial Airport, Nantucket, MA, by increasing it to a 4.4-mile radius excluding that airspace within a .3-mile radius of Waine Heliport, Nantucket, MA, as the previous radius of 4.2-miles does not properly contain instrument flight rules operations. This action also updates the geographic coordinates for the Nantucket Memorial Airport in the Class D legal description.

This action amends the Class E4 airspace over Nantucket, MA, by reducing its size to the new dimensions of 1.4 miles on either side of the 044° bearing from the Nantucket Memorial Airport, extending from the 4.4-mile radius to 9.4 miles northeast of the airport. This action also updates the geographic coordinates for the Nantucket Memorial Airport in the Class E4 legal description.

This action amends Class E5 airspace extending from 700 feet above the surface by changing the dimensions to be within a 6.9-mile radius of Nantucket Memorial Airport and within 2.4 miles of each side of the 044° bearing from the Nantucket Memorial Airport 6.9-mile radius to 9.4 miles northeast of the Airport. This action also updates the geographic coordinates for the Nantucket Memorial Airport and removes the reference to the Nantucket VORTAC in the Class E5 legal description. This reconfiguration properly contains the currently published standard instrument approach procedures.

This action makes an editorial change to the Nantucket, MA Class D, E4, and E5 airspace descriptions by replacing “Airport/Facility Directory” with “Chart Supplement” in accordance with current FAA policy.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a.¹ This airspace action is not expected to cause any potentially significant environmental impacts, and no extraordinary circumstances exist that warrant the preparation of an environmental assessment.

¹ FAA Order 1050.1F was recently cancelled and replaced by FAA Order 1050.1G. However, Order 1050.1F was the operative order in effect at the time the environmental analysis was conducted.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

ANE MA D Nantucket, MA [Amended]

Nantucket Memorial Airport, MA

(Lat. 41°15′12″ N, long. 70°03′38″ W)

Waine Heliport, MA

(Lat. 41°17′06″ N, long. 70°08′59″ W)

That airspace extending upward from the surface to and including 2,500 feet MSL within a 4.4-mile radius of Nantucket Memorial Airport, excluding that airspace within a .3-mile radius of Waine Heliport. This Class D airspace area is effective during specific dates and times established in advance by a Notice to Airmen. The effective date and time will thereafter be continuously published in the Chart Supplement.

* * * * *

Paragraph 6004 Class E Airspace Designated as an Extension to a Class D Surface Area.

* * * * *

ANE MA E4 Nantucket, MA [Amended]

Nantucket Memorial Airport, MA

(Lat. 41°15′12″ N, long. 70°03′38″ W)

That airspace extending upward from the surface of the Earth within 1.4 miles on either side of the 044° bearing from the Nantucket Memorial Airport, extending from the 4.4-mile radius to 9.4 miles Northeast of the airport. This Class E Surface airspace area is effective during the specific dates and times established in advance by a Notice to Airmen. The effective dates and times will thereafter be continuously published in the Chart Supplement.

* * * * *

Paragraph 6005 Class E Airspace.

* * * * *

ANE MA E5 Nantucket, MA [Amended]

Nantucket Memorial Airport, MA

(Lat. 41°15′12″ N, long. 70°03′38″ W)

That airspace extending upward from 700 feet above the surface within a 6.9-mile radius of Nantucket Memorial Airport and within 2.4 miles each side of the 044° bearing from the Nantucket Memorial Airport extending from the 6.9-mile radius to 9.4 miles northeast of the Airport.

* * * * *

Issued in College Park, Georgia, on July 14, 2025.
Patrick Young,
Manager, Airspace & Procedures Team North, Eastern Service Center, Air Traffic Organization.

[FR Doc. 2025-13382 Filed 7-16-25; 8:45 am]

BILLING CODE 4910-13-P